Title 3—

The President

Proclamation 10323 of December 14, 2021

Bill of Rights Day, 2021

By the President of the United States of America

A Proclamation

More than two centuries ago, our Founders drafted the Constitution in order to create an American Government that could act with urgency on national issues without compromising individual rights and freedoms. They had the genius not only to craft such a Government but to foresee their own fallibility as well. In their foresight, they made the charter at the heart of our Nation a living document—including within it a process by which it could be amended to evolve and keep pace with the wisdom of passing time.

Opportunities to improve our Constitution have been contemplated since its inception. On December 15, 1791, three-fourths of the existing State legislatures ratified the first 10 Amendments of the Constitution—the Bill of Rights. These Amendments protect some of the most indispensable rights and liberties that define us as Americans. Though we have often struggled to live up to the promises they contain, 230 years after the ratification of the Bill of Rights, respect for human rights and fundamental freedoms remains at the center of our democracy.

The Bill of Rights is important not only in the freedoms it protects but in its demonstration of America's enduring commitment to self-improvement and striving to continuously form a “more perfect union.” Since 1791, 17 additional Amendments have been ratified for a total of 27 Amendments to the Constitution. From the 13th Amendment, which abolished slavery; to the 14th Amendment, which guaranteed birthright citizenship, promised “equal protection under the laws,” and safeguarded fundamental rights and fair process; to the several Amendments devoted to prohibiting electoral discrimination based on race, sex, age, and the inability to afford a tax; to the most recent amendment ratified in 1992 to keep members of Congress more responsive to their voters—our history of amending the Constitution illustrates that improving our democracy is the shared and constant duty of all Americans. Democracy's greatest strength is the ability it provides its citizens to improve their system of governance, which is why democracy is uniquely suited to face the challenges of a changing world.

Just as our Founders overcame their differences to form the democracy we know today, our country continues to confront its problems head-on and work together to fix them, even in the face of disagreements. Respectful disagreement is healthy and American—indeed, it is protected by the Bill of Rights itself—but there is no place in a democracy for threats or violence.

Earlier this month, the United States hosted the first ever Summit for Democracy, where Governmental and non-governmental leaders from around the world came together to set forth an affirmative agenda for democratic renewal and to tackle the greatest threats faced by democracies today through collective action. By working with our democratic partners, we can meet the challenges of today and tomorrow.

NOW, THEREFORE, I, JOSEPH R. BIDEN JR., President of the United States of America, by virtue of the authority vested in me by the Constitution and the laws of the United States, do hereby proclaim December 15, 2021, as Bill of Rights Day. I call upon the people of the United States to observe this day with appropriate ceremonies and activities.

IN WITNESS WHEREOF, I have hereunto set my hand this fourteenth day of December, in the year of our Lord two thousand twenty-one, and of the Independence of the United States of America the two hundred and forty-sixth.

[FR Doc. 2021-27540

Filed 12-16-21; 11:15 am]

Billing code 3395-F2-P